DEPARTMENT OF VETERANS AFFAIRS

[OMB Control No. 2900-New (VA Form 10-0537)]

Agency Information Collection: (PACT Clinical Innovation Study: Engaging Caregivers in the Care of Veterans With Dementia); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to improve dementia care for patients and care givers.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or Fax (202) 395-6974. Please refer to “2900—New (VA Form 10-0537).

FOR FURTHER INFORMATION CONTACT: Denise McLamb, Enterprise Records Service (005R1B), Department of Veterans Affairs, 810 Vermont Avenue NW., Washington, DC 20420, (202) 632-7479, Fax (202) 632-7583 or email: denise.mclamb@va.gov. Please refer to “OMB Control No. 2900—New (VA Form 10-0537).

SUPPLEMENTARY INFORMATION:

Title: PACT Clinical Innovation Study: Engaging Caregivers in the Care of Veterans with Dementia, VA Form 10-0537, Appendices a-u.

OMB Control Number: 2900—New.

Type of Review: New data collection.

Abstract: The data collected on VA Form 10-0537, Appendices a-u, will be used to examine the feasibility and extent to which a patient-centered and dementia care management program for veterans and their caregivers facilitates access to and use of medical and social services. The information will help VA develop and test a care management intervention that will improve dementia care for patients and family caregivers.

Affected Public: Individuals or households.

Estimated Annual Burden: 704 hours.

Estimated Average Burden per Respondent: 88 minutes.

Frequency of Response: On occasion.

Estimated Number of Respondents: 160.

Estimated Number of Responses: 480.

Dated: August 16, 2012.
By direction of the Secretary.
Denise McLamb,
Program Analyst Director, Enterprise Records Service.

[FR Doc. 2012-20461 Filed 8-20-12; 8:45 am]

BILLING CODE 8320-01-P